UNITED STATES DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of 18 individuals and 2 entities whose property and interests in property have been unblocked pursuant to Executive Order 12978 of October 21, 1995, Blocking Assets and Prohibiting Transactions With Significant Narcotics Traffickers.

DATES: The unblocking and removal from the list of Specially Designated Nationals and Blocked Persons (“SDN List”) of the individuals and entities identified in this notice, whose property and interests in property were blocked pursuant to Executive Order 12978 of October 21, 1995, is effective on September 21, 2011.

FOR FURTHER INFORMATION CONTACT: Assistant Director, Sanctions Compliance & Evaluation, Office of Foreign Assets Control, Department of the Treasury, Washington, DC 20220, tel.: (202) 622-2490.

SUPPLEMENTARY INFORMATION:

Electronic and Facsimile Availability

This document and additional information concerning OFAC are available from OFAC's Web site (http://www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On September 21, 2011, the Director of OFAC removed from the SDN List the 18 individuals and 2 entities listed below, whose property and interests in property were blocked pursuant to the Order:

AGUDELO, Ivan de Jesus, Avenida 6N No. 47-197 17, Cali, Colombia; c/o INDUSTRIA MADERERA ARCA LTDA., Cali, Colombia (individual) [SDNT]

BAENA CARDENAS, Luis Gonzalo, c/o BANCA DE INVERSION Y MERCADO DE CAPITALES S.A., Cali, Colombia; DOB 30 Jul 1955; Cedula No. 19266564 (Colombia) (individual) [SDNT]

CAMPO RAMIREZ, Guido, c/o VALORCORP S.A., Bogota, Colombia; Cedula No. 16218589 (Colombia) (individual) [SDNT]

CORTES, Polania Raquel, c/o MAPRI DE COLOMBIA LTDA., Bogota, Colombia; DOB 5 Nov 1965; Cedula No. 55150515 (Colombia); Passport 55150515 (Colombia) (individual) [SDNT]

CREDIVIDA, Calle 16 No. 100-88, Cali, Colombia; Cedula No. 31919241 (Colombia) [SDNT]

CUBILLOS CORREDOR, Manuel Antonio, Carrera 69BN No. 43A-70 Apt. 401 Int. 3, Bogota, Colombia; c/INTERCONTINENTAL DE AVIACION S.A., Bogota, Colombia; c/INTERFIAR, Bogota, Colombia; DOB 28 Sep 1948;

POB Bogota, Colombia; Cedula No. 19057000 (Colombia); Passport P050296 (Colombia) (individual) [SDNT]

CUBILLOS, Bellanidia, c/o FARMEDIS LTDA., Bogota, Colombia; Cedula No. 36179143 (Colombia) (individual) [SDNT]

DOMINGUEZ GARIBELLO, Freddy Orlando (a.k.a. DOMINGUEZ GARIVELLO, Freddy Orlando), c/o INDUSTRIA AVICOLA PALMASECA S.A., Cali, Colombia; DOB 25 Apr 1960; Cedula No. 16659634 (Colombia) (individual) [SDNT]

LOPEZ URREA, Adriana Patricia, c/o COLPHAR S.A., Bogota, Colombia; DOB 29 Feb 1968; Cedula No. 36378461 (Colombia); Passport 36378461 (Colombia) (individual) [SDNT]

MILLAN SALAS, Jaime, c/o VALORCORP S.A., Bogota, Colombia; c/o ALERO S.A., Cali, Colombia; Cedula No. 16589582 (Colombia) (individual) [SDNT]

OLAYA ROSCIASCO, Patricia Esperanza, c/o LABORATORIOS PROFARMA LTDA., Bogota, Colombia; DOB 30 Mar 1963; Cedula No. 51698439 (Colombia); Passport 51698439 (Colombia) (individual) [SDNT]

ORTIZ CARDONA, Gloria, c/o MACROFARMA S.A., Pereira, Colombia; Cedula No. 34056678 (Colombia); Passport 34056678 (Colombia) (individual) [SDNT]

RODRIGUEZ TELLEZ, Luz Yazmin (a.k.a. RODRIGUEZ TELLEZ, Luz Jazmin), c/o LABORATORIOS PROFARMA LTDA., Bogota, Colombia; c/o MATERIAS PRIMAS Y SUMINISTROS S.A., Bogota, Colombia; DOB 30 Apr 1972; Cedula No. 52030300 (Colombia); Passport 52030300 (Colombia) (individual) [SDNT]

ROJAS VILLARREAL, Andres Mauricio, c/o GIAMX LTDA., Bogota, Colombia; c/o WORLD TRADE LTDA., Bogota, Colombia; Cedula No. 80415760 (Colombia) (individual) [SDNT]

SISTEMAS INTEGRALES DEL VALLE LTDA. (a.k.a. SISVA LTDA.), Avenida 4 Norte No. 6N-67 of. 610, Cali, Colombia; NIT # 805006032-3 (Colombia) [SDNT]

SMITH CORTES, Jorge Emilio, c/o MAPRI DE COLOMBIA LTDA., Bogota, Colombia; Cedula No. 19323175 (Colombia); Passport 19323175 (Colombia) (individual) [SDNT]

SOTO PACHECO, Jhonayn, c/o FARMEDIS LTDA., Bogota, Colombia; Cedula No. 7691290 (Colombia) (individual) [SDNT]

SUAREZ BERNAL, Myriam, c/o FARMA XXI LTDA., Neiva, Huila, Colombia; DOB 2 Nov 1970; Cedula No. 35414723 (Colombia); Passport 35414723 (Colombia) (individual) [SDNT]

VARGAS VARGAS, Flor Yadira, c/o ADMACOOP, Bogota, Colombia; c/o CODISA, Bogota, Colombia; DOB 11 Jul 1971; Cedula No. 52584018 (Colombia); Passport 52584018 (Colombia) (individual) [SDNT]

VELASQUEZ, Miguel Angel, c/o ADMINISTRADORA DE SERVICIOS VARIOS CALIMA S.A., Cali, Colombia; c/o ASESORIAS ECONOMICAS MUNOZ SANTACOLOMA E.U., Cali, Colombia; c/o CHAMARTIN S.A., Cali, Colombia; Cedula No. 16305012 (Colombia); Passport 16305012 (Colombia) (individual) [SDNT]

Dated: September 21, 2011.
Adam J. Szubin,
Director, Office of Foreign Assets Control.

[FR Doc. 2011-24932 Filed 9-27-11; 8:45 am]

BILLING CODE 4810-AL-P